DEPARTMENT OF HEALTH AND HUMAN SERVICES

Centers for Disease Control and Prevention

Advisory Committee to the Director (ACD), Centers for Disease Control and Prevention—Health Disparities Subcommittee (HDS)

In accordance with section 10(a)(2) of the Federal Advisory Committee Act (Pub. L. 92-463), the Centers for Disease Control and Prevention (CDC) announces the following meeting of the aforementioned subcommittee:

Time and Date: 9:00 a.m.-3:30 p.m., EST, April 16, 2014.

Place: CDC, Building 21, Room 1204A, 1600 Clifton Road NE., Atlanta, Georgia 30333.

Status: Open to the public, limited only by the space available. The meeting room accommodates approximately 20 people. The public is welcome to participate during the public comment period, tentatively scheduled from 3:15 p.m. to 3:30 p.m. This meeting is also available by teleconference. Please dial (877) 496-4855 and enter code 4363556.

Purpose: The Subcommittee will provide advice to the CDC Director through the ACD on strategic and other health disparities and health equity issues and provide guidance on opportunities for CDC.

Matters for Discussion: The Health Disparities Subcommittee members will discuss some of the current health equity activities at CDC, including those related to chronic diseases, as well as discuss health equity recommendations to the CDC ACD.

The agenda is subject to change as priorities dictate.

Web Links

Connection-1

http://wm.onlinevideoservice.com/CDC1

Flash Connection-3 (For Safari and Google Chrome Users)

http://www.onlinevideoservice.com/clients/CDC/?mount=CDC3

If you are unable to connect using the link, copy and paste the link into your web browser.

Captions are only available on the Windows Media links Connections-1. Viewer's report is given the next day.

Number for Technical Support: 404-639-3737.

Contact Person for More Information: Leandris Liburd, Ph.D., M.P.H., M.A., Designated Federal Officer, Health Disparities Subcommittee, ACD, CDC, 1600 Clifton Road NE., Mailstop K-77, Atlanta, Georgia 30333, Telephone (770) 488-8343, Email: LEL1@cdc.gov.

The Director, Management Analysis and Services Office, has been delegated the authority to sign Federal Register notices pertaining to announcements of meetings and other committee management activities, for both the Centers for Disease Control and Prevention and the Agency for Toxic Substances and Disease Registry.

Gary J. Johnson,
Acting Director, Management Analysis and Services Office, Centers for Disease Control and Prevention (CDC).

[FR Doc. 2014-06624 Filed 3-25-14; 8:45 am]

BILLING CODE 4163-18-P